DEPARTMENT OF HEALTH AND HUMAN SERVICES

Health Resources and Services Administration

Meeting of the Advisory Committee on Infant Mortality

AGENCY: Health Resources and Services Administration (HRSA), Department of Health and Human Services (HHS).

ACTION: Notice.

SUMMARY: The Secretary's Advisory Committee on Infant Mortality (ACIM) has scheduled a public meeting. Information about ACIM and the agenda for this meeting can be found on the ACIM website at https://www.hrsa.gov/advisory-committees/infant-mortality/index.html.

DATES: April 8, 2019, from 9:00 a.m. to 5:00 p.m. Eastern Time (ET) and April 9, 2019, from 9:00 a.m. to 3:30 p.m. ET.

ADDRESSES: This meeting will be held remotely via webinar. Instructions on how to access the meeting via webcast will be provided upon registration and on the committee's website at https://www.hrsa.gov/advisory-committees/Infant-Mortality/index.html.

FOR FURTHER INFORMATION CONTACT: David S. de la Cruz, Ph.D., MPH, Designated Federal Official (DFO), Maternal and Child Health Bureau (MCHB), HRSA, 5600 Fishers Lane, Room 18N-25, Rockville, Maryland 20857; 301-443-0543; or dcruz@hrsa.gov.

SUPPLEMENTARY INFORMATION: ACIM was established under provisions of Section 222 of the Public Health Service Act (42 U.S.C. 217a), as amended. ACIM is governed by provisions of the Federal Advisory Committee Act (Pub. L. 92-463). ACIM provides advice and recommendations to the Secretary of HHS regarding HHS programs and activities that focus on reducing infant mortality, improving the health status of infants and pregnant women, and factors affecting the continuum of care with respect to maternal and child health care. ACIM also focuses on: (1) Outcomes before, during, and following pregnancy and childbirth; (2) strategies to coordinate a myriad of federal, state, local, and private programs, and efforts that are designed to deal with the health and social problems impacting infant mortality; and (3) the implementation of the federal Healthy Start Initiative: Eliminating Disparities in Perinatal Health.

During the April 2019 meeting, ACIM will discuss updates from HRSA, MCHB, and other federal agencies pertinent to the work of the ACIM; the scope of work and priorities of the ACIM; feedback from ACIM members; and continue the discussion around how health equity is related to infant mortality. Agenda items are subject to change as priorities dictate; please refer to the ACIM website for any updated information concerning the meeting. Members of the public will have the opportunity to provide comments. Public participants may submit written statements in advance of the scheduled meeting. Oral comments will be honored in the order they are requested and may be limited as time allows. Requests to submit a written statement or make oral comments to to ACIM should be sent to David S. de la Cruz, DFO, using the contact information above at least three business days prior to the meeting. Individuals who plan to attend and need special assistance or another reasonable accommodation should notify David S. de la Cruz at the address and phone number listed above at least 10 business days prior to the meeting.

Amy P. McNulty,
Acting Director, Division of the Executive Secretariat.

[FR Doc. 2019-02623 Filed 2-15-19; 8:45 am]

BILLING CODE 4165-15-P